DEPARTMENT OF DEFENSE

Office of the Secretary

32 CFR Part 199

Civilian Health and Medical Program of the Uniformed Services (CHAMPUS)

AGENCY: Department of Defense.

ACTION: Final rule; correction.

SUMMARY: This rule is published to correct a previously published definition of “Homebound” by restoring language that had been inadvertently deleted in the Final Rule published at 70 FR 61368 and to revise certain references published at 69 FR 51559.

DATES: This rule is effective August 16, 2006.

FOR FURTHER INFORMATION CONTACT: Michael Kottyan, 303-676-3520.

SUPPLEMENTARY INFORMATION: On Friday, August 20, 2004, the Department revised the definition of “Homebound” by adding a sentence at the end. See 69 FR 51559. On Monday, October 24, 2005, the Department again revised the definition of “Homebound” by deleting the above revision and adding two sentences at the end. See 70 FR 61368. This rule is published to revise the definition of “Homebound” by restoring the deleted sentence and to correct references in 32 CFR 199.5.

List of Subjects in 32 CFR Part 199

Claims, Dental health, Health care, Health insurance, Individuals with disabilities, Military personnel.

Accordingly, 32 CFR part 199 is amended as follows:

PART 199—[AMENDED]

1. The authority citation for part 199 continues to read as follows:

Authority: 5 U.S.C. 301; 10 U.S.C. chapter 55.

2. Section 199.2(b) is corrected by adding a sentence at the end of the definition for Homebound to read as follows:

§199.2 Definitions.

* * * * *

(b) * * *

Homebound. * * * In addition to the above, absences, whether regular or infrequent, from the beneficiary's primary residence for the purpose of attending an educational program in a public or private school that is licensed and/or certified by a state, shall not negate the beneficiary's homebound status.

* * * * *

§199.5 [Corrected]

3. Section 199.5(h)(5) is corrected by revising “(i)(4)(v)” to read “(h)(3)(v)(A)” and by revising “Individual” to read “Individualized.”

Dated: August 9, 2006.
L.M. Bynum,
Alternate OSD Federal Register Liaison Officer, Department of Defense.

[FR Doc. 06-6935 Filed 8-15-06; 8:45 am]

BILLING CODE 5001-06-M